DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Revised Management Plan for the Padilla Bay National Estuarine Research Reserve.

SUMMARY: Notice is hereby given that the Estuarine Reserves Division, Office of Ocean and Coastal Resource Management, National Ocean Service, National Oceanic and Atmospheric Administration (NOAA), U.S. Department of Commerce is announcing a thirty day public comment period on the revised management plan for the Padilla Bay National Estuarine Research Reserve.

The Padilla Bay National Estuarine Research Reserve is located in Skagit County, Washington. The Reserve was designated in 1980 pursuant to Section 315 of the Coastal Zone Management Act of 1972, as amended, 16 U.S.C. 1461. The reserve is revising their plan pursuant to 15 CFR. The submission of this revised plan sets a course for successful implementation of the goals and objectives of the reserve. New facilities, a focus on broad Puget Sound issues and climate change, and updated programmatic objectives are notable revisions to the previous approved management plan.

The revised management plan outlines the administrative structure; the education, stewardship, and research goals of the reserve; and the plans for future land acquisition and facility development to support reserve operations. Since 2002, the reserve has added a coastal training program that delivers science-based information to key decision makers in Washington State. The reserve has realized nearly all aspects of the original plan and expanded its programs dramatically since the original plan. The reserve has completed major facility expansion and renovation projects that provide classrooms, lab space, exhibit space, dormitory, and office space. The reserve has expanded, but not yet completed, its ownership of in-holdings within its boundary and increased staff which have resulted in the implementation of research, education, stewardship, GIS, and volunteer activities at the reserve.

This management plan calls for continued land acquisition within its boundaries from willing sellers, implementation of a habitat mapping and change plan, responsiveness to existing and emerging regional partnerships focusing on the management of Puget Sound, a focus on climate change within all reserve programs, implementation of the National Estuarine Research Reserve's K-12 Estuarine Education Program and continued implementation of the graduate research fellowship, coastal training, and system-wide monitoring programs.

FOR FURTHER INFORMATION CONTACT: Nina Garfield at (301) 563-1171 or Laurie McGilvray at (301) 563-1158 of NOAA's National Ocean Service, Estuarine Reserves Division, 1305 East-West Highway, N/ORM5, 10th floor, Silver Spring, MD 20910. For copies of the Padilla Bay Management Plan revision, visit http://www.padillabay.gov/.

Dated: June 30, 2008.
David M. Kennedy,
Director, Office of Ocean and Coastal Resource Management, National Oceanic and Atmospheric Administration.

[FR Doc. E8-15362 Filed 7-3-08; 8:45 am]

BILLING CODE 3510-08-P